DEPARTMENT OF AGRICULTURE

Agricultural Marketing Service

[Docket # AMS-FV-2006-0205; FV-06-317]

United States Standards for Grades of Cantaloups

AGENCY: Agricultural Marketing Service, USDA.

ACTION: Notice.

SUMMARY: The Agricultural Marketing Service (AMS), prior to undertaking research and other work associated with revising official grade standards, is soliciting comments on the possible revisions to the United States Standards for Grades of Cantaloups. AMS has been reviewing the Fresh Fruit and Vegetable grade standards for usefulness in serving the industry. As a result, AMS has identified the United States Standards for Grades of Cantaloups for possible revisions.

AMS is considering revising the (Application of Tolerances( section in the U.S. standards. Additionally, the (Unclassified( category would be eliminated from the standards. AMS is seeking comments on these proposed changes that may better serve the industry.

DATES: Comments must be received by February 26, 2007.

ADDRESSES: Interested persons are invited to submit written comments to the Standardization Section, Fresh Products Branch, Fruit and Vegetable Programs, Agricultural Marketing Service, U.S. Department of Agriculture, 1400 Independence Ave. SW, Room 1661 South Building, Stop 0240, Washington, DC 20250-0240; Fax (202) 720-8871, E-mail FPB.DocketClerk@usda.gov. Comments should make reference to the dates and page number of this issue of the Federal Register and will be made available for public inspection in the above office during regular business hours. The United States Standards for Grades of Cantaloups are available either at the above address or by accessing the AMS, Fresh Products Branch Web site at: http://www.ams.usda.gov/standards/stanfrfv.htm.

FOR FURTHER INFORMATION CONTACT: Cheri L. Emery, at the above address or call (202) 720-2185; e-mail Cheri.Emery@usda.gov.

SUPPLEMENTARY INFORMATION: Section 203(c) of the Agricultural Marketing Act of 1946 (7 U.S.C. 1621-1627), as amended, directs and authorizes the Secretary of Agriculture (To develop and improve standards of quality, condition, quantity, grade and packaging and recommend and demonstrate such standards in order to encourage uniformity and consistency in commercial practices.( AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is considering revisions to the voluntary United States Standards for Grades of Cantaloups using procedures that appear in Part 36, Title 7 of the Code of Federal Regulations (7 CFR part 36). These standards were last revised on June 30, 1968.

Background

AMS has been reviewing the Fresh Fruit and Vegetable grade standards for usefulness in serving the industry. AMS has identified the United States Standards for Grades of Cantaloups for possible revision. Prior to undertaking detailed work developing the proposed revisions in the standards, AMS is soliciting comments on the proposed revisions on the United States Standards for Grades of Cantaloups to better serve the industry.

AMS is considering revising the “Application of Tolerances” section in the U.S. standards by replacing the phrase “The contents of individual packages * * * ” with “Samples * * * ” and revising “(a) A package may contain * * * ” to “(a) Samples may contain * * * ” This change is needed in order to make the “Application of Tolerances” applicable to larger containers, such as bins, which may contain several hundred melons.

AMS is also eliminating the “Unclassified” category. AMS is removing this section in all standards as they are revised. This category is not a grade and only serves to show that no grade has been applied to the lot. It is no longer considered necessary due to current marketing practices.

This notice provides for a 60-day comment period for interested parties to comment on the proposed changes to the United States Standards for Grades of Cantaloups. Should AMS go forward with the revisions, it will develop the proposed revised standards that will be published in the Federal Register with a request for comments in accordance with 7 CFR part 36.

Authority: 7 U.S.C. 1621-1627.

Dated: December 21, 2006
Lloyd C. Day,
Administrator, Agricultural Marketing Service.

[FR Doc. E6-22235 Filed 12-27-06; 8:45 am]

BILLING CODE 3410-02-P